DEPARTMENT OF JUSTICE

[OLP Docket No. 167]

Notice of Request for Certification of Texas Capital Counsel Mechanism

AGENCY: Department of Justice.

ACTION: Notice.

SUMMARY: This notice advises the public that the State of Texas has provided additional information regarding its request for certification of its capital counsel mechanism by the Attorney General, and that the period to submit public comment to the Department of Justice regarding Texas's request has been extended to 60 days from the date of publication of this notice.

DATES: Written and electronic comments must be submitted on or before February 26, 2018. Comments received by mail will be considered timely if they are postmarked on or before that date. The electronic Federal Docket Management System (FDMS) will accept comments until Midnight Eastern Time at the end of that day.

ADDRESSES: To ensure proper handling of comments, please reference “Docket No. OLP 167” on all electronic and written correspondence. The Department encourages that all comments be submitted electronically through http://www.regulations.gov using the electronic comment form provided on that site. Paper comments that duplicate the electronic submission should not be submitted. Individuals who wish to submit written comments may send those to the contact listed in the FOR FURTHER INFORMATION section immediately below.

FOR FURTHER INFORMATION CONTACT: Laurence Rothenberg, Deputy Assistant Attorney General, Office of Legal Policy, U.S. Department of Justice, 950 Pennsylvania Avenue NW, Washington, DC 20530; telephone (202) 532-4465.

SUPPLEMENTARY INFORMATION: Chapter 154 of title 28, United States Code, provides special procedures for federal habeas corpus review of cases brought by prisoners in State custody who are subject to capital sentences. These special procedures may be available to a State only if the Attorney General of the United States has certified that the State has established a qualifying mechanism for the appointment, compensation, and payment of reasonable litigation expenses of competent counsel in State postconviction proceedings for indigent capital prisoners. 28 U.S.C. 2261, 2265; 28 CFR part 26.

On November 16, 2017, the Department of Justice, Office of Legal Policy published a notice in the Federal Register (82 FR 53530, OLP Docket No. 167, Document No. 2017-24874, available at https://www.federalregister.gov/documents/2017/11/16/2017-24874/notice-of-request-for-certification-of-texas-capital-counsel-mechanism), advising the public of Texas's request for certification, dated March 11, 2013, and requesting public comment regarding that request. The Department also sent a letter to Texas, dated November 16, 2017, asking whether the State wished to supplement or update that request.

This notice advises the public that the State of Texas has submitted additional information in regard to its prior request for certification. Public comment is solicited regarding Texas's request, and the comment period has been extended to 60 days from the date of publication of this notice. Texas's request and supporting materials may be viewed at https://www.justice.gov/olp/pending-requests-final-decisions.

One comment received by the Department in response to the Department's November 16, 2017 notice requested the comment period be extended from 60 days to 90 days from the date of publication of Texas's supplemental information. The Department declines at this time to extend the comment period to 90 days, but, as noted, has extended the deadline for public comment until 60 days from the date of publication of this notice. Further, the Department may choose to solicit additional public comment if necessary during the review process.

Dated: December 20, 2017.
Beth A. Williams,
Assistant Attorney General, Office of Legal Policy.

[FR Doc. 2017-27885 Filed 12-26-17; 8:45 am]

BILLING CODE 4410-BB-P